DEPARTMENT OF EDUCATION

[CFDA Nos. 84.007, 84.033, 84.038, 84.063, and 84.268]

Free Application for Federal Student Aid (FAFSA); 2013-2014 Award Year

AGENCY: Office of Postsecondary Education, Department of Education.

ACTION: Notice.

Overview Information: Free Application for Federal Student Aid (FAFSA) Information to be Verified for the 2013-2014 award year.

SUMMARY: For each award year, the Secretary publishes in the Federal Register a notice announcing the FAFSA information that an institution and an applicant may be required to verify. The notice also specifies what documentation is acceptable to the Secretary for verifying FAFSA information.

Through this notice, the Secretary announces for the 2013-2014 award year the FAFSA information subject to, and the documentation acceptable for, verification.

FOR FURTHER INFORMATION CONTACT: Jacquelyn C. Butler, U.S. Department of Education, Office of Postsecondary Education, 1990 K Street NW., room 8053, Washington, DC 20006. Telephone: (202) 502-7890.

If you use a telecommunications device for the deaf (TDD), call the Federal Relay Service (FRS), toll free, at 1-800-877-8339.

Individuals with disabilities can obtain this document in an accessible format (e.g., braille, large print, audiotape, or compact disc) on request to the program contact person listed under FOR FURTHER INFORMATION CONTACT.

SUPPLEMENTARY INFORMATION: The following chart lists for the 2013-2014 award year the FAFSA information that an institution and an applicant and, if appropriate, the applicant's parent(s) or spouse, may be required to verify under 34 CFR 668.56. The chart also lists acceptable documentation that must be provided under § 668.57 to an institution for that information. The Secretary will include on the applicant's Institutional Student Information Record (ISIR) flags that will indicate which FAFSA information needs to be verified for that applicant and, if appropriate, the applicant's parent(s) or spouse. The Student Aid Report (SAR) provided to the applicant will indicate that the applicant's FAFSA information has been selected for verification and direct the applicant to the institution for further instructions for completing the verification process.

FAFSA information | Acceptable documentation
Income information for tax filers ¹ | • Adjusted Gross Income (AGI). • U.S. Income Tax Paid. • Untaxed Portions of IRA Distributions. • Untaxed Portions of Pensions. • IRA Deductions and Payments. • Tax Exempt Interest Income. • Education Credits. | (1) Tax year 2012 information that the Secretary has identified as having been obtained from the Internal Revenue Service (IRS) (commonly referred to as the IRS Data Retrieval Tool) that has not been changed after the information was obtained from the IRS; or (2) A transcript ² obtained from the IRS that lists tax account information of the tax filer for tax year 2012. (§ 668.57(a))
Income information for tax filers with special circumstances ¹ • Adjusted Gross Income (AGI). • U.S. Income Tax Paid. • Untaxed Portions of Pensions. • IRA Deductions and Payments. • Tax Exempt Interest Income. • Education Credits. | For a student or the parent(s) of a dependent student whose income is used in the calculation of the applicant's expected family contribution, who filed a joint income tax return and is separated, divorced, widowed, or married to someone other than the individual included on the joint income tax return— (1) A transcript ² obtained from the IRS that lists tax account information of the tax filer(s) for tax year 2012; and (2) A copy of IRS Form W-2 ³ for each source of employment income received for tax year 2012. For an individual who is required to file a 2012 IRS income tax return and has been granted a filing extension by the IRS—
| 1(a) A copy of IRS Form 4868, “Application for Automatic Extension of Time to File U.S. Individual Income Tax Return,” that the individual filed with the IRS for tax year 2012; or
| (b) A copy of the IRS's approval of an extension beyond the automatic six-month extension if the individual requested an additional extension of the filing time for tax year 2012; and
| 2(a) A copy of IRS Form W-2 ³ for each source of employment income received for tax year 2012; and
| (b) If self-employed, a signed statement certifying the amount of the AGI and the U.S. income tax paid for tax year 2012.
| Note: An institution may request that an individual granted a filing extension submit tax information using the IRS Data Retrieval Tool, or by obtaining a transcript ² from the IRS that lists tax account information for tax year 2012 after the income tax return is filed. If an institution receives the transcript, it must verify the income information of the tax filer(s). (§ 668.57(a))
Income information for nontax filers • Income earned from work. | For an individual that has not filed and, under IRS rules or other applicable government agency rules, is not required to file a 2012 income tax return—
| (1) A signed statement certifying—
| (a) That the individual has not filed and is not required to file an income tax return for tax year 2012; and
| (b) The sources of income earned from work as reported on the FAFSA and amounts of income from each source for tax year 2012 that is not reported on IRS Form W-2; and
| (2) A copy of IRS Form W-2 ³ for each source of employment income received for tax year 2012. (§ 668.57(a))
• Number of Household Members | A statement signed by the applicant and, if the applicant is a dependent student, by one of the applicant's parents, that lists the name and age of each household member and the relationship of that household member to the applicant.
| Note: Verification of number of household members is not required if:
| • For a dependent student, the household size reported on the FAFSA is two and the parent is single, separated, divorced, or widowed; or the household size reported is three if the parents are married; or
| • For an independent student, the household size reported on the FAFSA is one and the applicant is single, separated, divorced, or widowed; or the household size reported is two if the applicant is married. (§ 668.57(b)).
• Number in College | (1) A statement signed by the applicant and, if the applicant is a dependent student, by one of the applicant's parents, listing the name and age of each household member who is or will be attending an eligible postsecondary educational institution as at least a half-time student in the 2013-2014 award year and the name of that educational institution.
| (2) If an institution has reason to believe that an applicant's FAFSA information, or the signed statement provided by the applicant regarding the number of household members enrolled in eligible postsecondary institutions is inaccurate, the institution must obtain a statement from each institution named by the applicant that the household member in question is, or will be, attending that institution on at least a half-time basis unless—
| (a) The institution the student is attending determines that such a statement is not available because the household member in question has not yet registered at the institution he or she plans to attend; or
| (b) The institution has information indicating that the household member in question will be attending the same institution as the applicant.
| Note: Verification of the number of household members in college is not required if the reported number of household members enrolled at least half-time in eligible postsecondary institutions is one. (§ 668.57(c))
• Supplemental Nutrition Assistance Program (SNAP-Food Stamps) | (1) A statement signed by the applicant or, if the applicant is a dependent student, by one of the applicant's parents, affirming that SNAP-Food Stamps benefits were received by someone in the household during the 2011 and/or 2012 calendar years. (2) If an institution has reason to believe that the signed statement provided by the applicant regarding the receipt of SNAP-Food Stamps benefits is inaccurate, the institution must obtain documentation from the agency that issued the SNAP-Food Stamps benefits. (§ 668.57(d))
• Child Support Paid | (1) A statement signed by the applicant or parent, as appropriate, certifying—
| (a) The amount of child support paid;
| (b) The name of the person who paid the child support;
| (c) The name of the person to whom child support was paid; and
| (d) The names of the children for whom child support was paid.
| (2) If the institution has reason to believe that the information provided in the signed statement is inaccurate, the applicant must provide the institution with supporting documentation, such as—
| (a) A copy of the separation agreement or divorce decree that shows the amount of child support to be provided;
| (b) A statement from the individual receiving the child support showing the amount provided; or
| (c) Copies of the child support checks or money order receipts. (§ 668.57(d))
• High School Completion Status | (1) High School Diploma
| (a) A copy of the applicant's high school diploma; or
| (b) A copy of the applicant's final high school transcript that shows the date when the applicant completed secondary school education.
| Note: In cases where a copy of an applicant's high school diploma or final high school transcript is unavailable, e.g., the school is closed or located in a foreign country and the records are not available, an institution may accept alternative documentation to verify the applicant's high school completion status.
| (2) Recognized Equivalent of a High School Diploma
| (a) General Educational Development (GED) Certificate;
| (b) A State certificate received by a student after the student has passed a State-authorized examination that the State recognizes as the equivalent of a high school diploma;
| (c) An academic transcript of a student who has successfully completed at least a two-year program that is acceptable for full credit toward a bachelor's degree; or
| (d) For a person who is seeking enrollment in an educational program that leads to at least an associate degree or its equivalent and has not completed high school but has excelled academically in high school, documentation from the high school that the student excelled academically in high school and documentation from the postsecondary institution that the student has met the formalized, written policies of the postsecondary institution for admitting such students.
| (3) Homeschool
| (a) A transcript or the equivalent, signed by the parent or guardian, that lists the secondary school courses completed by the applicant and documents the successful completion of a secondary school education; or
| (b) A secondary school completion credential for homeschool (other than a high school diploma or its recognized equivalent) provided for under State law. (§§ 600.2, 668.32(e)(1) and (e)(4))
• Identity/Statement of Educational Purpose | (1) An applicant must appear in person and present the following documentation to an institutionally authorized individual to verify the applicant's identity—
| (a) A valid government-issued photo identification, such as but not limited to a driver's license, non-driver's license, military identification or passport; and
| (b) A signed statement certifying that the Federal student financial assistance received will only be used for educational purposes to pay the cost of attending that institution for the 2013-2014 award year.
| (2) For documentation presented in person, an institution must maintain, an annotated copy of the identification submitted by the applicant that includes—
| (a) The date the documentation used to verify the applicant's identity was received; and
| (b) The name of the institutionally-authorized individual that obtained the documentation from the applicant.
| (3) If an applicant is unable to appear in person, he or she must provide the institution with—
| (a) A copy of a valid government-issued photo identification, such as but not limited to a driver's license, non-driver's license, military identification or passport; and
| (b) An original notarized statement signed by the applicant certifying that the Federal student financial assistance received will only be used for educational purposes to pay the cost of attending that institution for the 2013-2014 award year. (§ 668.57(d))
¹ A tax filer that filed an income tax return other than an IRS form, such as a foreign or Puerto Rican tax form, must use the income information (converted to U.S. dollars) from the lines of that form that corresponds most closely to the income information reported on a U.S. income tax return.
² If an institution determines, consistent with guidance that the Secretary may provide, that obtaining a transcript from the IRS is not possible, the institution may, consistent with the Secretary's guidance, accept a copy of the 2012 income tax return. The copy must include the signature of the tax filer or of one of the filers of a joint income tax return; or the signed, stamped, typed, or printed name and address of the preparer of the income tax return and the preparer's Social Security Number, Employer Identification Number, or Preparer Tax Identification Number. If a copy of the 2012 income tax return is not available the institution must accept—
(a) A copy of IRS Form W-2 (see footnote 3) for each source of employment income received for tax year 2012, and if self-employed, a signed statement certifying the amount of AGI and taxes paid for tax year 2012; or
(b) A signed statement by an individual that has filed an income tax return with a government of a U.S. territory or commonwealth or a foreign central government certifying the amount of AGI and taxes paid for tax year 2012.
³ If an individual who is required to submit an IRS Form W-2 is unable to obtain one in a timely manner, the institution may permit that individual to provide a signed statement, in accordance with 34 CFR 668.57(a)(6), that includes—
(a) The amount of income earned from work;
(b) The source of that income; and
(c) The reason that the IRS Form W-2 is not available in a timely manner.

Other Sources for Detailed Information

We provide a more detailed discussion on the verification process in the following resources:

• 2013-2014 Application and Verification Guide.

• 2013-2014 ISIR Guide.

• 2013-2014 SAR Comment Codes and Text.

• 2013-2014 COD Technical Reference.

• Program Integrity Information—Questions and Answers on Verification at http://www2.ed.gov/policy/highered/reg/hearulemaking/2009/verification.html.

You may access these publications at the Information for Financial Aid Professionals Web site at www.ifap.ed.gov.

Electronic Access to This Document: The official version of this document is published in the Federal Register. Free Internet access to the official edition of the Federal Register and the Code of Federal Regulations is available via the Federal Digital System at www.gpo.gov/fdsys. At this site you can view this document, as well as all other documents of this Department published in the Federal Register, in text or Adobe's Portable Document Format (PDF). To view PDF documents, you must have the Adobe Acrobat Reader, which is available for free at the site.

You may also access documents of the Department published in the Federal Register by using the article search feature at www.federalregister.gov. Through the advanced search feature at this site, you can limit your search to documents published by the Department.

Program Authority: 20 U.S.C. 1070a, 1070a-1, 1070b-1070b-4, 1070c-1070c-4, 1070g, 1071-1087-2, 1087a-1087j, and 1087aa-1087ii; 42 U.S.C. 2751-2756b.

Dated: July 9, 2012.
David A. Bergeron,
Acting Assistant Secretary for Postsecondary Education.

[FR Doc. 2012-17038 Filed 7-11-12; 8:45 am]

BILLING CODE 4000-01-P